DEPARTMENT OF THE INTERIOR

Fish and Wildlife Service

50 CFR Part 17

RIN 1018-AG75

Endangered and Threatened Wildlife and Plants; Final Designation of Critical Habitat for Chlorogalum purpureum, a Plant From the South Coast Ranges of California; Correction

AGENCY: Fish and Wildlife Service, Interior.

ACTION: Final rule; correction.

SUMMARY: The Fish and Wildlife Service announces a correction to the final rule to designate critical habitat for two varieties of purple amole, Chlorogalum purpureum var. purpureum (purple amole) and Chlorogalum purpureum var. reductum (Camatta Canyon amole), that was published in the Federal Register on October 24, 2002 (67 FR 65414). The maps for both varieties of this species and the legal description for C. p. var. reductum are correct as published in the Federal Register. However, the legal description for the C. p. var. purpureum is incorrect in part. This notice contains the correct version of the legal description for C. p. var. purpureum.

DATES: This correction is effective on April 24, 2003.

FOR FURTHER INFORMATION CONTACT: Diane Noda, Field Supervisor, or Kirk Waln, GIS Specialist, at Ventura Fish and Wildlife Office, U.S. Fish and Wildlife Service, 2493 Portola Road, Suite B, Ventura, CA 93003 (telephone: 805/644-1766; facsimile: 805/644-3958).

SUPPLEMENTARY INFORMATION: On October 24, 2002, the U.S. Fish and Wildlife Service (Service) published a final rule designating critical habitat for two varieties of the purple amole, Chlorogalum purpureum: the Chlorogalum purpureum var. purpureum and Chlorogalum purpureum var. reductum (67 FR 65414). The final rule contained correct maps for both varieties and the correct legal descriptions of the final critical habitat unit for C. p. var. reductum. However, the legal description of the boundaries for the Jolon Unit of critical habitat for C. p. var. purpureum erroneously contained coordinates describing several additional small polygons lying along the eastern boundary of Fort Hunter Liggett. We are providing a corrected version of the legal description of critical habitat for the Jolon Unit of C. p. var. purpureum that omits the erroneous coordinates.

Accordingly, the following correction to FR Doc. 02-26768 published at 67 FR 65414 on October 24, 2002, is provided.

PART 17—[CORRECTED]

1. On page 65439, in § 17.96(a)(7), correct the coordinates to read as follows:

(7) Jolon Unit.

(i) Chlorogalum purpureum var. purpureum. Monterey County, California. From USGS 1:24,000 quadrangle map Jolon. Lands bounded by UTM zone 10 NAD83 coordinates (E,N): 666471, 3985340; 666646, 3985110; 666965, 3985110; 667260, 3985130; 667281, 3984880; 667567, 3984910; 667699, 3984690; 667849, 3984770; 668125, 3984770; 668175, 3984600; 668224, 3984470; 668334, 3984260; 668086, 3984250; 668094, 3984040; 668004, 3984040; 667888, 3983960; 667891, 3983860; 668085, 3983860; 668118, 3983590; 668538, 3983430; 668526, 3983290; 668780, 3983360; 668909, 3983300; 668905, 3983060; 669317, 3983070; 669346, 3982270; 669638, 3982120; 669638, 3981950; 669463, 3981960; 669396, 3981850; 668647, 3981840; 668649, 3982250; 668435, 3982790; 668126, 3982790; 668122, 3982620; 667509, 3982620; 667426, 3982950; 667272, 3982930; 667261, 3983040; 667283, 3983420; 666998, 3983420; 666907, 3983410; 666887, 3984220; 666496, 3984220; 666471, 3985340.

669233, 3978620; 669242, 3978640; 669244, 3978640; 669255, 3978650; 669303, 3978720; 669365, 3978680; 669374, 3978620; 669441, 3978600; 669504, 3978600; 669542, 3978660; 669614, 3978730; 669639, 3978810; 669616, 3978890; 669610, 3978900; 669594, 3978940; 669654, 3978930; 670986, 3978670; 671848, 3978660; 671854, 3978560; 671879, 3978440; 671888, 3978350; 671880, 3978370; 671821, 3978350; 671804, 3978280; 671833, 3978220; 671933, 3978220; 671918, 3978130; 671922, 3978070; 671947, 3978020; 671981, 3977950; 671985, 3977900; 671964, 3977870; 671961, 3977850; 670600, 3977840; 670599, 3977640; 669239, 3978620; 669233, 3978620.

(ii) Note: See Map 2.

Dated: April 16, 2003.
Paul Hoffman,
Acting Assistant Secretary for Fish and Wildlife and Parks.

[FR Doc. 03-10157 Filed 4-23-03; 8:45 am]

BILLING CODE 4310-55-P